ENVIRONMENTAL PROTECTION AGENCY

[ER-FRL-6663-4]

Environmental Impact Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at 202-564-7167.

An explanation of the ratings assigned to draft environmental impact statements (EISs) was published in FR dated April 1, 2005, 70 FR 16815.

Draft EISs

EIS No. 20050000, ERP No. D-AFS-J65435-UT, Ogden Ranger District Travel Plan, To Update the Travel Management Plan, Wasatch-Cache National Plan, Ogden Ranger District, Box Elder, Cache, Morgan, Weber and Rich Counties, UT.

Summary: EPA expressed concerns about potential adverse effects to both aquatic and terrestrial resources from the existing and proposed travel systems and from the indirect effects of unauthorized motorized use. Rating EC2.

EIS No. 20050075, ERP No. D-FRC-C03015-00, Crown Landing Liquefied Natural Gas Terminal, Construct and Operate in Gloucester County, NJ and New Castle County, DE; and Logan Lateral Project, Construct and Operate a New Natural Gas Pipeline and Ancillary Facilities in Gloucester County, NJ and Delaware, PA.

Summary: EPA expressed concerns because the Draft EIS did not include detailed mitigation plans, a discussion of Clean Air Act general conformity requirements, and did not thoroughly analyze the cumulative effects on navigation and the environment. Rating EC2.

EIS No. 20050078, ERP No. D-AFS-H65023-00, Black-Tailed Prairie Dog Conservation and Management on the Nebraska National Forest and Associated Units, Implementation, Dawes, Sioux, Blaine, Cherry, Thomas Counties, NE and Custer, Fall River, Jackson, Pennington, Jones, Lyman, Stanley Counties, SD.

Summary: EPA has no objections to any of the alternatives evaluated in the DEIS, but suggests considering non-lethal means to control prairie dog population where feasible. Rating LO.

EIS No. 20050086, ERP No. D-AFS-J65438-WY, Dean Project Area, Proposes to Implement Multiple Resource Management Actions, Black Hills National Forest, Bearlead Ranger District, Sundance, Crook County, WA.

Summary: EPA expressed environmental concerns about potential adverse impacts to water quality from additional runoff, erosion and increased sediments, and potential cumulative impacts from proposed changes to management action designations. The Final EIS should further quantify impacts and describe measures to minimize and/or mitigate environmental impacts. Rating EC2.

EIS No. 20050093, ERP No. D-NOA-K39091-CA, Monterey Accelerated Research Systems (MARS) Cabled Observatory, Proposes to Install and Operate an Advanced Undersea Cabled Observatory, Monterey Bay, Pacific Ocean Offshore of Moss Landing, Monterey County, CA.

Summary: EPA had no objections to the project as proposed. Rating LO.

EIS No. 20050121, ERP No. D-AFS-J65440-MT, Northeast Yak Project, Proposed Harvest to Reduce Fuels in Old Growth, Implementation, Kootenai National Forest, Three River Ranger District, Lincoln County, MT.

Summary: EPA acknowledges and supports the proposed benefits of the activities that will reduce impacts to water quality and fisheries and improve old growth and grizzly bear habitat. However, EPA expressed environmental concerns because it may take from 5-7 years to acquire the necessary funding and possibly longer to implement measures that will significantly reduce sediment loads. Rating EC2.

EIS No. 20050046, ERP No. DS-BLM-J67026-MT, Golden Sunlight Mine Pit Reclamation Alternatives, Updated Information, Operating Permit No. 00065 and Plan-of-Operation #MTM 82855, Whitehall, Jefferson County, MT.

Summary: EPA expressed concerns about the need for perpetual treatment to meet water quality standards under all alternatives, and requested additional consideration of potential mitigation to reduce risks to water quality primarily in the partial pit-backfill alternatives. Rating EC2.

EIS No. 20050087, ERP No. DS-BLM-K67038-NV, Ruby Hill Mine Expansion—East Archimedes Project, Extension of Existing Open Pit and Expansion of Two Existing Waste Rock Disposal Areas, Plan-of-Operations Permit, Eureka County, NV.

Summary: EPA expressed environmental concerns about the potential impacts of pit lake water quality on aquatic life and water fowl, heap leach closure, and surface water diversion structure design and maintenance, and recommended the Final SEIS provide additional information and identify additional mitigation. Rating EC2.

EIS No. 20050109, ERP No. DS-NOA-C91004-00, Amendment to the Fishery Management Plans (FMP), Amendment 2 for the Spiny Lobster Fishery; Amendment 1 for the Queen Conch Resources; Amendment 3 for the Reef Fish Fishery; Amendment 2 Corals and Reef Associated Invertebrate, U.S. Caribbean to Address Required Provisions MSFCMA, Puerto Rico and the U.S. Virgin Island.

Summary: EPA has no objection to the proposed action. Rating LO.

Final EISs

EIS No. 20050101, ERP No. F-AFS-K65266-AZ, Arizona Snowbowl Facilities Improvements, Proposal to Provide a Consistent/Reliable Operating Season, Coconino National Forest, Coconino County, AZ.

Summary: No formal comment letter was sent to the preparing agency.

EIS No. 20050130, ERP No. F-AFS-F65048-WI, Lakewood/Laona Plantation Thinning Project, To Implement Vegetation Management Activities, Chequamegon-Nicolet National Forest, Lakewood Ranger District, Forest, Langlade and Oconto Counties, WI.

Summary: The FEIS adequately addressed EPA's concerns about map depiction in the LRMP, the project's objectives, and indirect and cumulative impacts on surrounding northern hardwoods.

EIS No. 20050164, ERP No. F-FRC-G03024-TX, Vista del Sol Liquefied Natural Gas (LNG) Terminal Project, Construct, Install and Operate and LNG Terminal and Natural Gas Pipeline Facilities, Vista del Sol LNG Terminal LP and Vista del Sol Pipeline LP, TX.

Summary: EPA continues to express environmental concerns about the preferred action, requested that the record of decision include acceptable wetland mitigation plan and recommended that the applicant identify a restoration project to fund within the Corpus Christi Bay watershed.

EIS No. 20050123, ERP No. FB-NOA-E91007-00, South Atlantic Shrimp Fishery Management Plan, Amendment 6, Propose to Amend the Bycatch Reduction Device (BRD) Testing Protocol System, South Atlantic Region.

Summary: EPA had no objection to the project as proposed.

EIS No. 20050069, ERP No. FS-BLM-K67050-NV, Pipeline/South Pipeline Pit Expansion Project, Updated Information on Modifying the Extending Plan of Operations (Plan), Gold Acres Mining District, Launder County, NV.

Summary: EPA expressed concerns that BLM has deferred until mine closure the designation and evaluation of post-mining beneficial uses and applicability of beneficial use requirements for pit lakes and concerns regarding the long-term mitigation and monitoring fund. EPA is also concerned that the Final SEIS does not address the issues critical to establishing the effectiveness of the fund and whether it will be available for future mitigation and monitoring needs should they arise. EPA recommended additional information on these issues be included in the Record of Decision.

EIS No. 20050115, ERP No. FS-NRC-E06023-AL, Generic EIS—License Renewal of Nuclear Plants, Joseph M. Farley Nuclear Plants, Units 1 and 2, Supplemental 18 to NUREG-1437 (TAC NOS. MC0768 and MC0769; Houston County, AL.

Summary: EPA continues to have environmental concerns about the availability of long-term offsite storages of radioactive waste, and future surface water withdrawals for plant operations which could be affected by State agreements. Radiological monitoring of all plant effluents, and appropriate storage of radioactive waste will be necessary during the license renewal period.

Dated: May 10, 2005.
Robert W. Hargrove,
Director, NEPA Compliance Division, Office of Federal Activities.

[FR Doc. 05-9586 Filed 5-12-05; 8:45 am]

BILLING CODE 6560-50-P